DEPARTMENT OF COMMERCE

National Oceanic and Atmospheric Administration

National Estuarine Research Reserve System

AGENCY: Estuarine Reserves Division, Office of Ocean and Coastal Resource Management, National Ocean Service, National Oceanic and Atmospheric Administration, U.S. Department of Commerce.

ACTION: Notice of Public Comment Period for the Revised Management Plan for the Weeks Bay National Estuarine Research Reserve.

SUMMARY: Notice is hereby given that the Estuarine Reserves Division, Office of Ocean and Coastal Resource Management, National Ocean Service, National Oceanic and Atmospheric Administration (NOAA), U.S. Department of Commerce is announcing a thirty day public comment period on the revised Weeks Bay National Estuarine Research Reserve Management Plan which will begin on the day this announcement is published. Comments should be sent within the comment period in hard copy or e-mail to Matthew Chasse at Matt.Chasse@noaa.gov or NOAA's Estuarine Reserves Division, 1305 East-West Highway, N/ORM5, 10th floor, Silver Spring, MD 20910.

The Weeks Bay National Estuarine Research Reserve was designated in February 1986 pursuant to Section 315 of the Coastal Zone Management Act of 1972, as amended, 16 U.S.C. 1461. The reserve has been operating under a management plan approved in 1998. Pursuant to 15 CFR 921.33(c), a state must revise its management plan every five years. The submission of this plan fulfills this requirement and sets a course for successful implementation of the goals and objectives of the reserve. A boundary expansion, new facility and land acquisition plans, and updated programmatic objectives are notable revisions to the 1998 approved management plan.

Since the Weeks Bay National Estuarine Research Reserve was designated, it has been managed by the Alabama Department of Economic and Community Affairs. Since that time, state responsibility for the management of the reserve has been transferred to the Alabama Department of Conservation and Natural Resources (ADCNR), State Lands Division. A revised MOU between NOAA and the State of Alabama was approved to reflect these changes. Under ADCNR, the revised management plan outlines the administrative structure; the education, stewardship, and research goals of the reserve; and the plans for future land acquisition and facility development to support reserve operations.

Three hundred and thirty three (333) acres of state-owned coastal and submerged lands adjacent to the reserve are incorporated through the boundary amendment in the management plan revision. The expansion provides a broader and more representative diversity of wetland and water habitats into the reserve boundary. The new boundary and will provide areas for reserve related research and education programs. The tidal freshwater riverine, emergent and forested wetland communities protected through this expansion further enhance the Weeks Bay reserve as an appropriate and ecologically representative site for long-term research and education.

FOR FURTHER INFORMATION CONTACT: Matt Chasse at (301) 563-1198 or Laurie McGilvray at (301) 563-1158 of NOAA's National Ocean Service, Estuarine Reserves Division, 1305 East-West Highway, N/ORM5, 10th floor, Silver Spring, MD 20910. For copies of the Weeks Bay Management Plan revision, visit http://www.sarpc.org.

Dated: March 28, 2007.
David M. Kennedy,
Director, Office of Ocean and Coastal Resource Management, National Oceanic and Atmospheric Administration.

[FR Doc. E7-6195 Filed 4-3-07; 8:45 am]

BILLING CODE 3510-08-P